DEPARTMENT OF STATE

[Public Notice 5410]

Bureau of Educational and Cultural Affairs (ECA); Request for Grant Proposals: Regional Educational Advising Coordinator Program

Announcement Type: New Cooperative Agreement.

Funding Opportunity Number: ECA/A/S/A-07-03.

Catalog of Federal Domestic Assistance Number: 00.000.

Key Dates: Program start date: October 1, 2006.

Application Deadline: July 10, 2006.

Executive Summary: The Educational Information and Resources Branch in the Office of Global Educational Programs of the Bureau of Educational and Cultural Affairs (ECA) announces an open competition for a cooperative agreement to support the Regional Educational Advising Coordinator (REAC) Program. The underlying goal of this cooperative agreement is to foster international student mobility between the United States and the rest of the world. The grantee organization will provide programmatic oversight and coordination, communication and information channels, training and logistical support, and human resource services to eight REACs, thus assuring their capacity to supply the EducationUSA network of 450 State Department-supported educational advising centers with adequate resources and professional training, and in turn, hundreds of thousands of overseas students with objective, accurate and timely information on U.S. higher education. The grantee organization will also ensure that the Bureau, U.S. embassies and Fulbright commissions receive thoughtful assessments of issues concerning advising centers and regional trends in student mobility from the REACs.

Non-profit higher education organizations with the infrastructure to manage programs in all regions of the world may submit proposals which demonstrate their knowledge of international student mobility, understanding of the needs of the EducationUSA network, and the capacity to support REACs based in Ghana, Germany, Mexico, Morocco, Pakistan, Peru, Russia, and Thailand. Pending availability of FY07 funding, this grant will provide an assistance award in the range of $1,273,000 to $1,433,000.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries* * *; to strengthen the ties which unite us with other nations by demonstrating the educational and cultural interests, developments, and achievements of the people of the United States and other nations...and thus to assist in the development of friendly, sympathetic and peaceful relations between the United States and the other countries of the world.” The funding authority for the program above is provided through legislation.

Purpose

The State Department and ECA are committed to facilitating and increasing the flow of international students to the U.S. in order to provide future world leaders with opportunities to understand U.S. society, culture and values. The REACs' role is critical to the Bureau's pursuit of this objective.

REACs and the EducationUSA advisers they support are catalysts for the exchange of U.S. Government-sponsored students and scholars as well as those who pursue U.S. educational programs through their own means or with the aid of other sponsors. REACs and the EducationUSA network market U.S. higher education abroad, promote study by international students, scholars and professionals in the U.S., and encourage study abroad by Americans. EducationUSA advisers counsel international students, parents and foreign government officials, and bring U.S. educational opportunities to the attention of a broad and diverse segment of young people. Advisers also facilitate outreach by U.S. institutions to these populations. (For more information, please see http://www.educationUSA.state.gov.)

Program Information

The grantee organization will ensure that REACs have the necessary logistical and programmatic support to provide comprehensive and accurate information to EducationUSA advisers through regional listservs and newsletters; to evaluate the need of advising centers for resources and training and to provide advisers appropriate training through regional workshops, internships and other professional opportunities; to conduct site visits to centers and report to ECA's Educational Information and Resources Branch (ECA/A/S/A); and to provide analyses to the Public Affairs and Consular sections of U.S. embassies on issues concerning the advising centers and trends in student mobility, with special reference to underserved groups. The grantee should also ensure that REACs represent the views of advisers and international students to educational institutions in the United States for the purpose of facilitating the enrollment of students in U.S. institutions.

REACs have been employed previously through a variety of mechanisms, including grants to U.S.-based non-governmental organizations as well as transfers of funds to U.S. embassies and Fulbright Commissions. Through this cooperative agreement, the Bureau intends to provide a coherent administrative structure for the REACs, while maintaining the Bureau's traditionally substantial level of involvement in overseeing the format and content of assistance provided by the REACs to EducationUSA advisers. The grantee organization will use funding made available through this agreement to provide a uniform and equitable structure for REACs' salaries, health insurance, pensions, professional development, travel, equipment, and logistical support. The grantee organization should serve as a partner to REACs by facilitating and supporting them to conduct an adequate number of regional adviser training sessions and workshops. The grantee should facilitate communication and information flow among and between REACs via a listserv or other means. Ongoing REAC office expenses, including rent, are also eligible for funding. Should additional monies become available, the agreement will also pay for a part-time assistant for each REAC, where feasible and not already furnished from other sources; applicants should discuss in their proposals how they would provide part-time assistants.

Applicant organizations should include in their proposals a plan to maintain REACs in the cities and countries where they are currently based. Applicants must be willing to enter into a sub-grant agreement with certain current REAC host organizations, and to pay any applicable office rental fees as needed. Please contact ECA/A/S/A Program Officer Rachel Waldstein for more information on individual incumbent REAC situations. If a vacancy occurs, the grantee organization will be expected to recruit and select new REACs, in close consultation with ECA/A/S/A.

Please see the Program Objectives, Goals and Implementation (POGI) for further details on REAC responsibilities and qualifications, grantee organization responsibilities and the ECA/A/S/A role.

II. Award Information

Type of Award: Cooperative Agreement. Under this cooperative agreement, ECA/A/S/A will be substantially involved in program activities above and beyond routine grant monitoring. It will play a central role in reviewing staff selection, travel plans and budget, and issues requiring consultation with Fulbright Commission or U.S. embassy personnel. Please see the POGI for details.

Fiscal Year Funds: 2007.

Approximate Total Funding: Minimum of $1,273,000 and up to $1,433,000, pending availability of FY07 funds.

Approximate Number of Awards: One.

Approximate Average Award: Minimum of $1,273,000 and up to $1,433,000, pending availability of funds.

Anticipated Award Date: Pending availability of funds, October 1, 2006.

Anticipated Project Completion Date: December 31, 2007.

Additional Information: Pending successful implementation of this program and the availability of funds in subsequent fiscal years, it is ECA's intent to renew this grant for two additional fiscal years, before openly competing it again.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding possible in support of its programs. Proposals that include significant cost sharing will be deemed more competitive.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements:

(a.) Bureau grant guidelines require that organizations with less than four years experience in conducting international exchanges be limited to $60,000 in Bureau funding. ECA anticipates awarding one grant, in an amount of approximately $1,273,000 to $1,433,000 to support program and administrative costs required to implement this program. Therefore, organizations with less than four years experience in conducting international exchanges are ineligible to apply under this competition. The Bureau encourages applicants to provide maximum levels of cost sharing and funding in support of its programs.

(b.) Organizations may collaborate in the submission of an application to manage this program. In such a case, the agreement will be made with one organization that should be prepared to work with its institutional partners on the basis of one or more sub-agreements.

IV. Application and Submission Information

Note: Please read the complete announcement before sending inquiries or submitting proposals. Once the RFGP deadline has passed, Bureau staff may not discuss this competition with applicants until the proposal review process has been completed.

IV.1. Contact Information To Request an Application Package:

Please contact the Office of Global Educational Programs, ECA/A/S/A, Room 349, U.S. Department of State, SA-44, 301 4th Street, SW., Washington, DC 20547, telephone: 202-453-8866, fax number: 202-453-8890, e-mail: Waldsteinre@state.gov to request a Solicitation Package. Please refer to the Funding Opportunity Number ECA/A/S/A-07-03 located at the top of this announcement when making your request.

Alternatively, an electronic application package may be obtained from grants.gov. Please see section IV.3f for further information.

The Solicitation Package contains the Proposal Submission Instruction (PSI) document, which consists of required application forms, and standard guidelines for proposal preparation.

It also contains the Project Objectives, Goals and Implementation (POGI) document, which provides specific information, award criteria and budget instructions tailored to this competition.

Please specify Rachel Waldstein, Program Officer, and refer to the Funding Opportunity Number ECA/A/S/A-07-03 located at the top of this announcement on all other inquiries and correspondence.

IV.2. To Download a Solicitation Package Via Internet: The entire Solicitation Package may be downloaded from the Bureau's Web site at http://exchanges.state.gov/education/rfgps/menu.htm, or from the Grants.gov Web site at http://www.grants.gov. Please read all information before downloading.

IV.3. Content and Form of Submission: Applicants must follow all instructions in the Solicitation Package. The application should be submitted per the instructions under IV.3f. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please refer to the solicitation package. It contains the mandatory Proposal Submission Instructions (PSI) document and the Project Objectives, Goals and Implementation (POGI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa: For applicants' information only, the Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, record-keeping, reporting and other requirements. The Grantee will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547. Telephone: (202) 203-5029. FAX: (202) 453-8640.

Please refer to Solicitation Package for further information.

IV.3d.2. Diversity, Freedom and Democracy Guidelines: Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation: Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

Describe your plans for: i.e. sustainability, overall program management, staffing, coordination with ECA and PAS or any other requirements etc.

IV.3e. Please take the following information into consideration when preparing your budget:

IV.3e.1. Budget: Applicants must submit a comprehensive budget for the entire program. There must be a summary budget as well as breakdowns reflecting both administrative and program budgets. Applicants may provide separate sub-budgets for each REAC or for each program component, phase, location, or activity to provide clarification. Administrative and indirect costs may not exceed 30% and may not be charged against program costs such as REAC per diem, or lodging and per diem for advisers attending regionally based training.

IV.3e.2. Allowable costs for the program include the following:

(1) REAC salaries, benefits, health insurance, retirement.

(2) Costs for REAC professional development and for facilitating communication and information flow among REACs and with advising centers.

(3) Part-time assistant salaries.

(4) REAC travel.

(5) Logistical support and equipment.

(6) Cost of organizing regional adviser training programs.

Please refer to the Solicitation Package for complete budget guidelines and formatting instructions.

IV.3f. Application Deadline and Methods of Submission:

Application Deadline Date: July 10, 2006.

Reference Number: ECA/A/S/A-07-03.

Methods of Submission: Applications may be submitted in one of two ways:

(1) In hard-copy, via a nationally recognized overnight delivery service (i.e., DHL, Federal Express, UPS, Airborne Express, or U.S. Postal Service Express Overnight Mail, etc.), or

(2) electronically through http://www.grants.gov.

Along with the Project Title, all applicants must enter the above Reference Number in Box 11 on the SF-424 contained in the mandatory Proposal Submission Instructions (PSI) of the solicitation document.

IV.3f.1. Submitting Printed Applications: Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and seven copies of the application should be sent to: U.S. Department of State, SA-44, Bureau of Educational and Cultural Affairs, Ref.: ECA/A/S/A-07-03, Program Management, ECA/EX/PM, Room 534, 301 4th Street, SW., Washington, DC 20547.

Along with the Project Title, all applicants must enter the above Reference Number in Box 11 on the SF-424 contained in the mandatory Proposal Submission Instructions (PSI) of the solicitation document.

IV.3f.2.—Submitting Electronic Applications: Applicants have the option of submitting proposals electronically through Grants.gov (http://www.grants.gov). Complete solicitation packages are available at Grants.gov in the “Find” portion of the system. Please follow the instructions available in the ‘Get Started’ portion of the site (http://www.grants.gov/GetStarted).

Applicants have until midnight (12 a.m.) of the closing date to ensure that their entire applications have been uploaded to the grants.gov site. Applications uploaded to the site after midnight of the application deadline date will be automatically rejected by the grants.gov system, and will be technically ineligible.

Applicants will receive a confirmation e-mail from grants.gov upon the successful submission of an application. ECA will not notify you upon receipt of electronic applications.

IV.3g. Intergovernmental Review of Applications: Executive Order 12372 does not apply to this program.

V. Application Review Information

V.1. Review Process:

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (cooperative agreements) resides with the Bureau's Grants Officer.

Review Criteria

Technically eligible applications will be competitively reviewed according to the criteria stated below. These criteria are not rank ordered and all carry equal weight in the proposal evaluation. Please see POGI for a description of each criterion.

1. Program planning/Ability to achieve program objectives.

2. Institution's capacity/record.

3. Cost effectiveness/cost sharing.

4. Multiplier effect/impact.

5. Support of diversity.

6. Project evaluation.

7. Area expertise.

VI. Award Administration Information

VI.1a. Award Notices: Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements:

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information:

http://www.whitehouse.gov/omb/grants.

http://exchanges.state.gov/education/grantsdiv/terms.htm#articleI.

VI.3. Reporting Requirements: You must provide ECA with a hard copy original plus one copy of the following reports:

(1) A final program and financial report no more than 90 days after the expiration of the award;

(2) Quarterly program and financial reports. Program reports should include travel and budget updates for each REAC.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

Program Data Requirements: Organizations awarded grants will be required to maintain specific data on program participants (REACs and EducationUSA advisers) and activities in an electronically accessible database format that can be shared with the Bureau as required. As a minimum, the data must include the following:

(1) Name, address, contact information and biographic sketch of all persons who travel internationally on funds provided by the grant or who benefit from the grant funding but do not travel.

(2) Information on international and domestic travel, providing dates of travel and cities in which any exchange experiences take place. Final schedules for in country and U.S. activities must be received by the ECA Program Officer at least seven work days prior to the official opening of the activity.

VII. Agency Contacts

For questions about this announcement, contact: Rachel Waldstein, Program Officer, Educational Information and Resources Branch, Office of Global Educational Programs, ECA/A/S/A, Room 349, ECA/A/S/A-07-03, U.S. Department of State, SA-44, 301 4th Street, SW., Washington, DC 20547, telephone: 202-453-8866, fax: 202-453-8890, e-mail address: Waldsteinre@state.gov.

All correspondence with the Bureau concerning this RFGP should reference the above title and number ECA/A/S/A-07-03.

Please read the complete Federal Register announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: May 12, 2006.
Dina Habib Powell,
Assistant Secretary for Educational and Cultural Affairs, Department of State.

[FR Doc. E6-7601 Filed 5-17-06; 8:45 am]

BILLING CODE 4710-05-P